DEPARTMENT OF LABOR

Occupational Safety and Health Administration

29 CFR Part 1910

[Docket No. OSHA-2019-0001]

RIN 1218-AC93

Hazard Communication Standard

AGENCY: Occupational Safety and Health Administration (OSHA), Labor.

ACTION: Final rule; extension of compliance dates.

SUMMARY: OSHA is extending the compliance dates in its Hazardous Communications Standard (29 CFR 1910.1200), published in the Federal Register on May 20, 2024 (89 FR 44144), by four months. The compliance date in § 1910.1200(j)(2)(i) is extended from January 19, 2026, until May 19, 2026; the compliance date in § 1910.1200(j)(2)(ii) is extended from July 20, 2026 to November 20, 2026; the compliance date in § 1910.1200(j)(3)(i) is extended from July 19, 2027 to November 19, 2027; and the compliance date in § 1910.1200(j)(3)(ii) is extended from January 19, 2028 to May 19, 2028.

DATES: Effective Date January 15, 2026.

FOR FURTHER INFORMATION CONTACT:

For Press Inquiries: Mr. Frank Meilinger, Director, OSHA Office of Communications, U.S. Department of Labor; telephone: (202) 693-1999; email: meilinger.francis2@dol.gov.

For General and Technical Information: Tiffany DeFoe, Director, Office of Chemical Hazards, Metals, Directorate of Standards and Guidance, OSHA, Room N-3718, U.S. Department of Labor, 200 Constitution Avenue NW, Washington, DC 20210; email: defoe.tiffany@dol.gov.

SUPPLEMENTARY INFORMATION:

I. Overview

On May 20, 2024, the Occupational Safety and Health Administration (OSHA) finalized its update to the Hazard Communication Standard (HCS) (89 FR 44144). Paragraph (j) of the HCS specifies the dates by which compliance with the updated provisions of the HCS is required. OSHA adopted a tiered approach to compliance and finalized two sets of compliance dates for chemical manufacturers, importers, and distributors evaluating substances and mixtures (see 29 CFR 1910.1200(j)).

The initial compliance deadline in section 1910.1200(j)(2)(i) of January 19, 2026, for manufacturers, importers, and distributors evaluating substances, is imminent. Members of the regulated community have asked for additional guidance to comply with the updated HCS. Although OSHA has been working to finalize key guidance about the updated HCS for both the regulated community and agency personnel, the agency has not been able to complete these documents with sufficient time for the regulated community and OSHA personnel to benefit from them before the initial compliance date. OSHA has determined it is necessary to extend the initial compliance date in paragraph (j)(2)(i) by four months to allow time for the agency to publish the necessary guidance materials and for the regulated community to review those materials before the revised provisions take effect. To maintain the tiered approach to compliance adopted in the final rule (89 FR 44144, 44302), OSHA is also extending each of the subsequent compliance dates in paragraph (j)(2)(ii) and (j)(3) by four months.

This action does not alter existing paragraph (j)(4). Under that provision, between May 20, 2024 and the now-extended compliance dates in paragraphs (j)(2) and (j)(3), chemical manufacturers, importers, distributors, and employers may comply with either the previous version of this standard (77 FR 17574, Mar. 26, 2012), the updated HCS (89 FR 44144, May 20, 2024), or both.

II. Exemption From Notice-and-Comment and Delay of Effective Date

OSHA's implementation of this action without opportunity for public comment is based on the good cause exception in 5 U.S.C. 553(b)(B), in that seeking public comment here would be impracticable, unnecessary and contrary to the public interest. OSHA finds that there is good cause to forgo notice and comment because of the imminence of the initial compliance deadline (29 CFR 1910.1200(j)(2)(i)). The regulated community has an immediate need to know whether compliance will be expected by the existing compliance date, despite the lack of official agency guidance, and the additional time needed for notice and comment would add further uncertainty about compliance obligations. Further, because the regulated community must continue to comply with the 2012 HCS, the revised standard, or a combination of both until the compliance date pursuant to paragraph (j)(4), this extension merely maintains the status quo for a short period of time. OSHA therefore finds that notice and comment in this instance would be impracticable, unnecessary, and contrary to the public interest.

OSHA also finds that there is good cause to extend the compliance dates in sections 1910.1200(j)(2)(ii), 1910.1200(j)(3)(i), and 1910.1200(j)(3)(ii) by four months without notice and comment. In the final rule, OSHA determined that a tiered approach to compliance was necessary to address commenters' implementation concerns (89 FR 44144, 44302). OSHA finds no reason to revisit that finding. Accordingly, because OSHA is merely extending these subsequent compliance dates to maintain the agency's previously established tiered approach, additional public comment is unnecessary.

In establishing the effective date of this action, OSHA invokes the good cause exception in 5 U.S.C. 553(d)(3), which allows the action to be immediately effective for “good cause” rather than subject to the requirement that rules become effective no earlier than 30 days after publication (5 U.S.C. 553(d)). OSHA finds that the nature of this action, which merely maintains the status quo for a short period time, along with the imminence of the initial compliance deadline, and the confusion that could result from a failure to timely amend paragraph (j), make it unnecessary, impractical, and contrary to the public interest to delay the effectiveness of this action by 30 days.

List of Subjects in 29 CFR Part 1910

Chemicals, Diseases, Explosives, Flammable materials, Gases, Hazardous substances, Labeling, Occupational safety and health, Safety, Signs and symbols.

Authority and Signature

David Keeling, Assistant Secretary of Labor for Occupational Safety and Health, authorized the preparation of this document. It is issued under the authority of sections 4, 6, and 8 of the Occupational Safety and Health Act of 1970 (29 U.S.C. 653, 655, 657); 5 U.S.C. 553; Section 304, Clean Air Act Amendments of 1990 (Pub. L. 101-549, reprinted at 29 U.S.C.A. 655 Note); Section 41, Longshore and Harbor Workers' Compensation Act (33 U.S.C. 941); Section 107, Contract Work Hours and Safety Standards Act (40 U.S.C. 3704); Section 1031, Housing and Community Development Act of 1992 (42 U.S.C. 4853); Section 126, Superfund Amendments and Reauthorization Act of 1986, as amended (reprinted at 29 U.S.C.A. 655 Note); Secretary of Labor's Order No. 07-2025 (90 FR 27878); and 29 CFR part 1911.

Signed at Washington, DC, on January 9, 2026.
David Keeling,
Assistant Secretary of Labor for Occupational Safety and Health.

For the reasons set forth above, 29 CFR 1910 is hereby amended as follows:

PART 1910—OCCUPATIONAL SAFETY AND HEALTH STANDARDS

Subpart Z—Toxic and Hazardous Substances

1. The authority citation for subpart Z of 29 CFR part 1910 is revised to read as follows:

Authority: 29 U.S.C. 653, 655, 657; Secretary of Labor's Order No. 12-71 (36 FR 8754), 8-76 (41 FR 25059), 9-83 (48 FR 35736), 1-90 (55 FR 9033), 6-96 (62 FR 111), 3-2000 (65 FR 50017), or 5-2007 (72 FR 31159), 4-2010 (75 FR 55355) or 1-2012 (77 FR 3912), 08-2020 (85 FR 58393), or 07-2025 (90 FR 27878); 29 CFR part 1911; and 5 U.S.C. 553, as applicable.

All of subpart Z issued under 29 U.S.C. 655(b), except those substances that have exposure limits listed in Tables Z-1, Z-2, and Z-3 of § 1910.1000. The latter were issued under 29 U.S.C. 655(a).

Section 1910.1000, Tables Z-1, Z-2 and Z-3 also issued under 5 U.S.C. 553, but not under 29 CFR part 1911 except for the arsenic (organic compounds), benzene, cotton dust, and chromium (VI) listings.

Section 1910.1001 also issued under 40 U.S.C. 3704 and 5 U.S.C. 553.

Section 1910.1002 also issued under 5 U.S.C. 553, but not under 29 U.S.C. 655 or 29 CFR part 1911.

Sections 1910.1018, 1910.1029, and 1910.1200 also issued under 29 U.S.C. 653.

Section 1910.1030 also issued under Public Law 106-430, 114 Stat. 1901.

Section 1910.1201 also issued under 49 U.S.C. 1801-1819 and 5 U.S.C. 553.

2. Amend § 1910.1200 by revising paragraphs (j)(2)(i) and(ii) and (j)(3)(i) and(ii) to read as follows:

§ 1910.1200 Hazard Communication.

* * * * *

(j) * * *

(2) * * *

(i) Manufacturers, importers, and distributors, evaluating substances shall be in compliance with all modified provisions of this section no later than May 19, 2026.

(ii) For substances, all employers shall, as necessary, update any alternative workplace labeling used under paragraph (f)(6) of this section, update the hazard communication program required by paragraph (h)(1) of this section, and provide any additional employee training in accordance with paragraph (h)(3) of this section for newly identified physical hazard, or health hazards or other hazards covered under this section no later than November 20, 2026.

(3) * * *

(i) Chemical manufacturers, importers, and distributors evaluating mixtures shall be in compliance with all modified provisions of this section no later than November 19, 2027.

(ii) For mixtures, all employers shall, as necessary, update any alternative workplace labeling used under paragraph (f)(6) of this section, update the hazard communication program required by paragraph (h)(1) of this section, and provide any additional employee training in accordance with paragraph (h)(3) of this section for newly identified physical hazards, health hazards, or other hazards covered under this section no later than May 19, 2028.

* * * * *

[FR Doc. 2026-00653 Filed 1-14-26; 8:45 am]

BILLING CODE 4510-26-P